NATIONAL SCIENCE FOUNDATION

Proposal Review Panel for International Science and Engineering; Notice of Meeting

In accordance with the Federal Advisory Committee Act (Pub. L. 92-463, as amended), the National Science Foundation (NSF) announces the following meeting:

NAME AND COMMITTEE CODE: Proposal Review Panel for International Science and Engineering—PIRE “Coastal Flood Risk Reduction Program: Integrated, multi-scale approaches for understanding how to reduce vulnerability to damaging events” Site Visit (#10749).

DATE AND TIME: September 17, 2018; 8:00 a.m.-8:30 p.m., September 18, 2018; 8:30 a.m.-1:30 p.m.

PLACE: Texas A&M University at Galveston, Ocean and Coastal Studies Building, 1001 Texas Clipper Road, Galveston, TX 77554.

TYPE OF MEETING: Part Open.

CONTACT PERSON: Charles Estabrook, PIRE Program Manager, National Science Foundation, 2415 Eisenhower Avenue, Alexandria, Virginia 22314; Telephone 703/292-7222.

PURPOSE OF MEETING: NSF site visit to conduct a review during year 2 of the five-year award period. To conduct an in depth evaluation of performance, to assess progress towards goals, and to provide recommendations.

AGENDA: See attached.

REASON FOR CLOSING: Topics to be discussed and evaluated during closed portions of the site review will include information of a proprietary or confidential nature, including technical information; and information on personnel. These matters are exempt under 5 U.S.C. 552b(c), (4) and (6) of the Government in the Sunshine Act.

Dated: August 20, 2018.
Crystal Robinson,
Committee Management Officer.

PIRE NSF Site Visit Agenda—Brody TAMUG

Day 1 Monday, September 17, 2018

8:00 a.m.-9:00 a.m. Meet & Greet over continental breakfast (OPEN)

9:00 a.m.-9:30 a.m. PIRE overview (OPEN)

PIRE Rationale and Goals, accomplishments and future plans

Administration, Management, and Budget Plans

Facilities and Physical Infrastructure

Developing Human Resources

9:30 a.m.-10:00 a.m. Review of Responses to Issues by Past Reviewers (OPEN)

10:10 a.m.-10:30 a.m. NSF Executive Session/Break (CLOSED)

10:30 a.m.-10:40 a.m. Break

10:40 a.m.-11:30 a.m. Research (OPEN)

11:30 a.m.-Noon Students' Research Travel to the Netherlands (OPEN)

Noon-12:30 p.m. NSF Executive Session (CLOSED)

12:30 p.m.-1:30 p.m. Lunch—Discussion with Students (CLOSED)

1:30 p.m.-2:00 p.m. Education (OPEN)

2:00 p.m.-2:30 p.m. Integrating Research and Education (OPEN)

2:30 p.m.-3:00 p.m. Integrating Diversity (OPEN)

3:00 p.m.-3:30 p.m. NSF Executive Session/Break (CLOSED)

3:30 p.m.-4:15 p.m. Partnerships (OPEN)

4:15 p.m.-5:15 p.m. Wrap up (OPEN)

5:15 p.m.-6:15 p.m. Executive Session/Break—Develop issues for clarification (CLOSED)

6:15 p.m.-6:30 p.m. Critical Feedback Provided to PI (CLOSED)

7:00 p.m.-8:30 p.m. NSF Executive Session/Working Dinner (CLOSED)

Day 2 Tuesday, September 18, 2018

8:30 a.m.-9:30 a.m. Institutional Support (Administrators and PI/Co-PIs) (OPEN)

9:30 a.m.-10:30 a.m. Summary/Proposing Team Response to Critical Feedback (CLOSED)

10:30 a.m.-10:40 a.m. Break

10:40 a.m.-1:00 p.m. Site Review Team Prepares Site Visit Report (CLOSED) (11:45 a.m. Brown Bag Lunch Provided)

1:00 p.m.-1:30 p.m. Presentation of Site Visit Report to Principal Investigator (CLOSED)

[FR Doc. 2018-18221 Filed 8-22-18; 8:45 am]

BILLING CODE 7555-01-P